DEPARTMENT OF TRANSPORTATION

Federal Aviation Administration

14 CFR Part 71

[Airspace Docket No. 01-AEA-22]

Establishment of Class E Airspace

AGENCY: Federal Aviation Administration (FAA), DOT.

ACTION: Final rule; correction.

SUMMARY: This action corrects an error in the description of the established airspace designation that was published in the Federal Register on January 31, 2002, Airspace Docket No. 01-AEA-22.

EFFECTIVE DATE: May 2, 2002.

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION:

History

Federal Register Document 02-1006, Airspace Docket No. 01-AEA-22FR, published on January 31, 2002 (67 FR 4655), established Class E airspace at Easton Memorial Hospital. A review of Federal Aviation Administration Order 7400.9J revealed a similarity to an existing airspace description. This action corrects that error.

Correction to Final Rule

Accordingly, pursuant to the authority delegated to me, the Class E airspace designation for the Easton Memorial Hospital as published in the Federal Register on January 31, 2002 (67 FR 4655) (Federal Register Document 02-1006), is corrected as follows:

§ 71.1 [Corrected]

On page 4655, column 3, the 25th line is corrected removing “AEA MD E5, Easton Memorial Hospital [NEW] and substituting “AEA MD E5 Oxford”[NEW]

Issued in Jamaica, New York on April 22, 2002.
Richard J. Ducharme,
Assistant Manager, Air Traffic Division, Eastern Region.

[FR Doc. 02-10937 Filed 5-1-02; 8:45 am]

BILLING CODE 4910-13-M